DEPARTMENT OF COMMERCE

National Oceanic and Atmospheric Administration

[RTID 0648-XB075]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will hear presentations and discuss Administration priorities; the Coronavirus Aid, Relief, and Economic Security (CARES) Act and relief funding; Executive Orders and implications for NOAA; building a resilient seafood and fishing sector including marketing, workforce development, aquaculture, and social indicators of resilience; offshore wind and science; marine mammal deterrents; recreational fisheries engagement and work of the Recreational Electronic Reporting Task Force; and the fiscal year (FY) 2022 budget.

DATES: The meeting will be May 25, 2021 from 12 p.m.-5 p.m., and May 26 and 27, 2021 from 12:30 p.m.-5 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee.

Matters To Be Considered

This meeting time and agenda are subject to change. The members will hear presentations and discuss Administration priorities; CARES Act and relief funding; Executive Orders and implications for NOAA; building a resilient seafood and fishing sector including marketing, workforce development, aquaculture, and social indicators of resilience; offshore wind and science; marine mammal deterrents; recreational fisheries engagement and work of the Recreational Electronic Reporting Task Force; and the FY2022 budget. MAFAC will discuss various administrative and organizational matters, and meetings of subcommittees will convene.

Time and Date

The meeting is scheduled for May 25, 2021 from 12 p.m.-5 p.m., and May 26 and 27, 2021 from 12:30 p.m.-5 p.m., Eastern Time by webinar and conference call. Access information for the public will be posted at https://www.fisheries.noaa.gov/national/partners/marine-fisheries-advisory-committee-meeting-materials-and-summaries by May 7, 2021.

Dated: May 4, 2021.
Jennifer L. Lukens,
Federal Program Officer, Marine Fisheries Advisory Committee, National Marine Fisheries Service.

[FR Doc. 2021-09735 Filed 5-6-21; 8:45 am]

BILLING CODE 3510-22-P